DEPARTMENT OF EDUCATION

Emergency Management for Higher Education Grant Program

Catalog of Federal Domestic Assistance (CFDA) Number: 84.184T.

AGENCY: Office of Safe and Drug-Free Schools, Department of Education.

ACTION: Notice of final priorities and requirements.

SUMMARY: The Assistant Deputy Secretary for Safe and Drug-Free Schools announces priorities and requirements for the Emergency Management for Higher Education (EMHE) grant program. The Assistant Deputy Secretary may use one or more of these priorities and requirements for competitions in fiscal year (FY) 2010 and later years.

We intend these priorities and requirements to provide Federal financial assistance to institutions of higher education (IHEs) to develop, or review and improve, and fully integrate their campus-based all-hazards emergency management planning efforts. We intend grant awards under these priorities and requirements to increase the capacity of IHEs to prevent/mitigate, prepare for, respond to, and recover from the full range of emergency events.

DATES: Effective Date: These priorities and requirements are effective May 3, 2010.

FOR FURTHER INFORMATION CONTACT: Tara Hill, U.S. Department of Education, 400 Maryland Avenue, SW., room 10088, PCP, Washington, DC 20202-6450. Telephone: (202) 245-7860 or by e-mail: tara.hill@ed.gov.

If you use a telecommunications device for the deaf (TDD), call the Federal Relay Service (FRS), toll free, at 1-800-877-8339.

SUPPLEMENTARY INFORMATION:

Purpose of Program: EMHE grants support efforts by IHEs to develop, or review and improve, and fully integrate campus-based all-hazards emergency management planning efforts within the framework of the four phases of emergency management (Prevention-Mitigation, Preparedness, Response, and Recovery).

Congress appropriated initial funding for the EMHE grant competition in FY 2008 following the tragic shooting at Virginia Polytechnic Institute and State University in 2007. That and other past emergencies, such as the events of September 11, 2001, Hurricanes Katrina and Rita, and the tragic shooting at Northern Illinois University, reinforce the need for colleges and universities to prepare for the full range of emergency events that may affect their campus communities. The EMHE grant program provides funds to IHEs to establish or enhance an emergency management planning process that integrates the various components and departments of each IHE; focuses on reviewing, strengthening, and institutionalizing all-hazards emergency management plans; fosters partnerships with local and State community partners; supports vulnerability assessments; encourages training and drilling on the emergency management plan across the campus community; and requires IHEs to develop a written plan for preventing violence on campus by assessing and addressing the mental health needs of students, faculty, and staff who may be at risk of causing campus violence by harming themselves or others.

Program Authority: 20 U.S.C. 7131.

We published a notice of proposed priorities and requirements in the Federal Register on December 4, 2009 (74 FR 63740). That notice contained background information and our reasons for proposing the particular priorities and requirements.

Except for minor editorial and technical revisions, there is only one significant difference between the proposed priorities and requirements and these final priorities and requirements. Specifically, based on public comment, we have added an element to the priority that will require applicants to develop or update a written campus-wide continuity of operations plan that would enable the campus to maintain and/or restore key educational, business, and other essential functions following an emergency.

Public Comment: In response to our invitation in the notice of proposed priorities and requirements, four parties submitted comments on proposed priority 1 and on the proposed requirements. No comments were received on proposed priority 2.

Generally, we do not address technical and other minor changes, or suggested changes we are not authorized to make under the applicable statutory authority. In addition we do not address general comments that raised concerns not directly related to the proposed priorities or requirements.

Analysis of Comments and Changes: An analysis of the comments and of any changes in the priorities and requirements since publication of the notice of proposed priorities and requirements follows.

Priority 1—Institutions of Higher Education (IHE) Projects Designed to Develop, or Review and Improve, and Fully Integrate Campus-Based All-Hazards Emergency Management Planning Efforts

Comment: One commenter observed that the EMHE notice of proposed priorities and requirements was published in the Federal Register in advance of the enactment of the FY 2010 appropriation for the Department. The commenter referenced language in the Appropriations Committee Reports filed in the U.S. House of Representatives and the U.S. Senate concerning the funding provided for emergency management for institutions of higher education, including examples of activities (such as risk assessment, training, and the purchase of hardware and software) that might be funded with these appropriated funds. The commenter requested that the Department consider the language in these Congressional reports in establishing the final priorities and requirements for this competition.

Discussion: We have reviewed the language in the Conference Report accompanying the Department's 2010 appropriations act, as well as the language included in the related House and Senate Appropriations Committee reports (House Report 111-220 and Senate Report 111-66, accompanying H.R. 3293, respectively). We believe that the EMHE grant priorities and requirements are consistent with the guidance provided by both the House and the Senate in these documents. Activities such as risk assessments, training, and the purchase of hardware and software are all considered allowable activities under the EMHE program. Accordingly, we believe that the final priorities and requirements are consistent with Congressional guidance, while offering applicants the flexibility to design and propose projects that incorporate a wide range of activities to address their institutions' needs.

Changes: None.

Comment: One commenter expressed concern that the proposed priority would not permit applicants to receive support for addressing any violent activity occurring on campuses. The commenter recommended adding a priority that would broaden the scope of the program to address any risks and threats that come under the jurisdiction of campus law enforcement and emergency managers, and that the program provide support for training and activities designed to address a broad range of campus problems including sexual assault, arson, robbery, harassment, simple assault, binge drinking, and drug use.

Discussion: We agree with the commenter that IHEs face significant challenges in dealing with many forms of violent activity that occur on their campuses. However, the EMHE grant program is designed to provide support for initiatives in emergency preparedness for IHEs, and is not intended to address or prevent all discrete acts of violence. Mitigating violent activity may certainly be an outcome of an all-hazards approach to emergency management; however, the primary focus of EMHE is to assist campuses with planning for, responding to, and recovering from major emergencies and disasters.

Given the relatively small amount of available funding for this program and the limited number of grants awarded under the EMHE program to date, providing a significantly broader focus for the program at this time would significantly reduce the ability of the program to meet its primary purpose of assisting IHEs in developing or enhancing their emergency preparedness capacity.

We note that the Department also administers another discretionary grant competition that is intended to respond more directly to the concerns of violent behavior on campus. Specifically, the Grant Competition to Prevent High-Risk Drinking or Violent Behavior Among College Students (CFDA Number 84.184H) provides funds to develop, enhance, implement, and evaluate campus-based and/or community-based prevention strategies to reduce high-risk drinking or violent behavior among college students. For additional information on this program please visit: http://www2.ed.gov/programs/dvphighrisk/index.html.

Changes: None.

Comment: One commenter noted that element (7) in the proposed priority identifies students, faculty, and staff as individuals who pose a risk of violent behavior, but that others, including visitors to campus, also pose such a risk. The commenter suggested adding a priority addressing violence that is not related to mental health issues of on-campus individuals.

Discussion: We acknowledge that violent acts can be caused by any number of different factors in addition to mental illness or other mental health issues. However, House Report 110-231, issued on July 13, 2007, in conjunction with the FY 2008 appropriations bill for the Department that initially included funding for the EMHE program, explicitly stated that funds for new awards for IHEs should be used to develop and implement emergency management plans for preventing campus violence (including assessing and addressing the mental health needs of students) and for responding to threats and incidents of violence or natural disaster in a manner that ensures the safety of the campus community. The language in the proposed priority is not intended to limit the ability of campuses to consider a broader range of causes of violent behavior; rather, we intend it to ensure that, at a minimum, all EMHE grant recipients consider the potential role of mental health issues in campus violence. The language in the priority links the issue of identifying and addressing mental health issues with students, staff, and faculty because there are members of a campus community who may be able to observe warning signs and symptoms of mental health issues in these populations and use systems established by the IHE to initiate assessments or other appropriate procedures. IHEs cannot be expected to develop and maintain similarly comprehensive procedures for all short-term visitors to the campus setting.

Changes: None.

Comment: One commenter requested that funding under this program be available to establish a police agency on campus.

Discussion: While we recognize that many IHEs need to establish or support police or security forces on their campuses, we believe that this activity is outside the scope of this grant program. This program is designed to provide support for emergency management and overall preparedness initiatives for IHEs.

Changes: None.

Comment: One commenter suggested that rather than requiring applicants to respond to a prescriptive list of priorities and requirements, the Department should allow applicants to submit applications that propose individual approaches consistent with their institution's unique needs and emergency management challenges. In particular, the commenter recommended that the language related to infectious disease planning (proposed priority element number (6)) and mental health needs of campuses (proposed priority element number (7)) be modified to allow institutions to propose individual solutions based on differing institutional needs and capacities.

Discussion: We agree with the commenter that applicants should have the flexibility to design EMHE projects that respond to the unique needs of each campus. We believe the priorities are written in a way that will provide applicants with a significant amount of flexibility in identifying and addressing specific vulnerabilities and hazards that may be unique to each institution.

However, in administering this program, we seek to balance this needed flexibility with the need to ensure that IHEs receiving support under the program are addressing at least a core set of hazards that we have identified as important to the Federal interest. The core list of hazards includes those related to infectious diseases and the mental health needs of students, staff, and faculty who may be at risk of causing violence on campus.

Under this priority, IHEs still retain the flexibility to identify and address any unique emergency management issues or hazards identified as part of their vulnerability assessment. Further, eligibility for an EMHE grant is not affected for IHEs that have already addressed the required hazards or vulnerabilities identified by the Department before receiving a grant. Those entities need only commit to review emergency management plans for these required vulnerabilities during the grant period and to updating those plans as dictated by any relevant advances in the field or changes in local needs or concerns.

Changes: None.

Comment: One commenter suggested that we revisit our method for categorizing applicant institutions based on size. The commenter suggested that the categories used in the 2008 EMHE application enabled many relatively small institutions to be included in the “large” category, thereby enabling “small” institutions to request the same estimated funding level the Department identified for “large” institutions. The commenter recommended that additional funding tiers be established and that a specific category for very large institutions be created.

Discussion: We agree that changing the method for categorizing institutions by size would help to better align recommended funding amounts with institutional needs. We considered this comment, and our experience in implementing this program over the past two years, and for the FY 2010 competition we will change the method for establishing recommended grant award amounts. The new approach relies on student enrollment information (instead of number of facilities per campus) and establishes a category for very large institutions.

Because IHEs are diverse entities that face a broad range of different challenges in the emergency management arena, we have elected not to establish through this notice of final priorities and requirements enforceable maximum grant award amounts for categories of IHEs. Instead, we are including revised recommended grant award amounts in the notice inviting applications (NIA) for the EMHE program. We believe that this approach will provide appropriate flexibility for IHEs to develop projects that are of a scope that meets their unique emergency management needs while still providing helpful information for applicants about the approximate project scope and grant award sizes that we anticipate supporting.

Changes: No changes are being made to the final priorities and requirements. The change in the categorization of institutions described in the preceding paragraphs is reflected in the notice inviting applications for this competition, published elsewhere in this issue of the Federal Register.

Comment: One commenter recommended two changes to the proposed priority that would further emphasize the importance of continuity planning and the restoration of a learning environment following an emergency. The commenter requested that language be added to both proposed priority elements (1) and (4) to specifically emphasize the importance of continuity planning.

Discussion: We agree that ensuring that institutions have a plan for continuing to provide key services (for example education, payroll, health support, and food services) following an emergency is a critical concern for the higher education community. The Department has worked with local school districts and IHE campuses over the past several years to help them strategize on ways to restore the learning environment following an emergency. Particularly following Hurricanes Katrina and Rita, and given the recent influenza pandemic, we have been actively involved in developing resources to assist educational institutions at all levels in their continuity planning efforts.

We agree with the commenter that planning for the continuation of educational and other services following an emergency should be included as a component in an IHE's emergency management planning efforts, and will revise the priority to reflect this emphasis.

Changes: We have revised the priority by adding an additional element that will require applicants to develop or update a written campus-wide continuity of operations plan that would enable the campus to maintain and/or restore key educational, business, and other essential functions as quickly as possible following an emergency.

Requirements for Partner Agreements and Completed Memoranda of Agreements

Comment: One commenter observed that the capacity of law enforcement and mental health entities varies greatly from one community and one institution to another. For example, in one community the IHE law enforcement agency may be the primary emergency services provider for the community-at-large, whereas in another community the IHE may be largely or completely dependent on the local or State police departments for emergency services. The commenter observed that it may not always be appropriate for an IHE to have a partner agreement with the local law enforcement agency or a local mental health provider, particularly when the campus itself is the primary provider of emergency law enforcement or mental health services. The commenter recommended that an IHE not be required to enter into agreements with community-based law enforcement and mental health entities if the IHE is responsible for furnishing its own services in these areas.

Discussion: We agree with the commenter that there is tremendous diversity in the size and location of IHEs across the country and that IHEs have various levels of institutional capacity to respond to emergencies within their communities. We also acknowledge that in some situations it is an employee or agent of the IHE who is the lead incident commander and who ultimately assists local or State partners in their response activities.

The EMHE requirements are not intended to prescribe what the appropriate role and relationships should be between an IHE and its community partners. Instead, the requirements are designed to help foster communication and the establishment of relationships between the various potential responders to any incident, and to ensure that those relationships are established and solidified before any emergency event occurs. We expect that the roles and responsibilities articulated in both the partner agreements and the memoranda of agreements will vary greatly based on the relationship between each applicant IHE and its surrounding community. Our intent in proposing the requirement is to ensure that IHEs and their surrounding community partners are communicating with each other and coordinating their efforts, and not to prescribe what those efforts or relationships should entail.

Further, the requirements to establish partner agreements and memoranda of understanding are not intended to limit the roles an IHE may perform in a community response. Rather, the requirements are intended to ensure that all grantees ultimately establish solid working relationships with their key partners and that they know what the various roles and responsibilities of each partner (including the IHE) might be in the event of an emergency. An application from a campus where the applicant IHE serves as the primary emergency services provider for the local community should indicate that in its partner agreements. It is the demonstration and documentation of an established and ongoing relationship that is key to these requirements.

Changes: None.

Comment: One commenter identified the recovery of indirect costs from EMHE grants as a concern because these costs do not support direct project activities. The commenter also expressed concern that peer reviewers might find indirect cost rates for research institutions inappropriately high, which may have limited the number of research institutions that have been successful in receiving EMHE grants. The commenter suggested that we should include a requirement that would limit the percentage of indirect costs that may be recovered from an EMHE grant.

Discussion: Generally, the Federal Government permits grant recipients to recover indirect costs for costs associated with their federally funded grant projects. This recovery is typically based on a rate determined by a cognizant agency that takes into account the indirect costs involved in implementing grant activities. Costs in an indirect cost pool may include such items as utility costs, building maintenance services, general insurance costs, and the cost of staff who assist with administrative functions such as hiring, payroll services, or other similar activities. The indirect cost rate is determined through a process of negotiation with the institution's cognizant agency and is designed to be an accurate reflection of the actual indirect costs associated with conducting programming at that institution. IHEs frequently are assigned several indirect cost rates as a result of the negotiation process; these rates reflect differences in indirect costs associated with different kinds of project activities. For example, IHEs may be assigned a rate for research grants, a rate for grants implemented at a facility other than a campus facility (for example, at a hospital or research laboratory), or a rate for other sponsored projects.

While recovery of indirect costs reduces the amount of funding that can be used to support direct grant activities, establishing a cap on indirect cost recovery that is lower than that permitted by an IHE's negotiated rate means that the IHE will need to identify other grant or institutional resources to help pay for the indirect costs consumed by implementing an EMHE project. Establishing an arbitrary cap for indirect costs could affect an IHE's ability to implement its EMHE project if the IHE does not have institutional or other resources to pay these indirect costs, and may make it impossible for some IHEs to compete for or accept an EMHE grant.

Because EMHE projects are not research projects, we do not permit EMHE grantees to recover indirect costs at the higher established research project rate. Typically, applicants for the EMHE program request recovery of costs based on the indirect cost rate for other on-campus programs, or other sponsored programs, at their IHE.

The issue of indirect costs is not an issue that peer reviewers evaluate when they read and score an application. The selection criteria used for the EMHE competition do not include any criteria that require peer reviewers to evaluate the adequacy or reasonableness of the grant budget proposed by the applicant.

Changes: None.

Final Priorities:

These priorities are:

Priority 1—Institutions of Higher Education (IHE) Projects Designed to Develop, or Review and Improve, and Fully Integrate Campus-Based All-Hazards Emergency Management Planning Efforts

The Assistant Deputy Secretary for Safe and Drug-Free Schools establishes a priority that supports IHE projects designed to develop, or review and improve, and fully integrate campus-based all-hazards emergency management planning efforts. A program funded under this priority must use the framework of the four phases of emergency management (Prevention-Mitigation, Preparedness, Response, and Recovery) to:

(1) Develop, or review and improve, and fully integrate a campus-wide all-hazards emergency management plan that takes into account threats that may be unique to the campus;

(2) Train campus staff, faculty, and students in emergency management procedures;

(3) Coordinate with local and State government emergency management efforts;

(4) Ensure coordination of planning and communication across all relevant components, offices, and departments of the campus;

(5) Develop a written plan with emergency protocols that include the medical, mental health, communication, mobility, and emergency needs of persons with disabilities, as well as for those individuals with temporary special needs or other unique needs (including those arising from language barriers or cultural differences);

(6) Develop or update a written plan that prepares the campus for infectious disease outbreaks with both short-term implications for planning (e.g., outbreaks caused by methicillin-resistant Staphylococcus aureus (MRSA) or food-borne illnesses) and long-term implications for planning (e.g., pandemic influenza);

(7) Develop or enhance a written plan for preventing violence on campus by assessing and addressing the mental health needs of students, staff, and faculty who may be at risk of causing violence by harming themselves or others; and

(8) Develop or update a written campus-wide continuity of operations plan that would enable the campus to maintain and/or restore key educational, business, and other essential functions following an emergency.

Priority 2—Priority for Applicants That Have Not Previously Received a Grant Under The EMHE Program (CFDA Number 84.184T)

Under this priority we give priority to applications from IHEs that have not previously received a grant under this program (CFDA Number 84.184T). An applicant that has received services under this program directly, or as a partner in a consortium application under this program, would not meet this priority. Under a consortium application, all members of the IHE consortium must meet this criterion in order for the applicant to meet this priority.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements:

Partner Agreements: To be considered for a grant award, an applicant must include in its application two partner agreements. One partner agreement must detail coordination with, and participation of, a representative of the appropriate level of local or State government for the locality in which the IHE to be served by the project is located (for example, the mayor, city manager, or county executive). The second partner agreement must detail coordination with, and participation of, a representative from a local or State emergency management coordinating body (for example, the head of the local emergency planning council that would be involved in coordinating a large-scale emergency response effort in the campus community). Both agreements must include the name of the partner organization, an indication of whether the partner represents the local or State government or the local or State emergency management coordinating body, and a description of the respective partner as well as a description of the partner's roles and responsibilities in supporting the EMHE grant and in strengthening emergency management planning efforts for the IHE. Each partner agreement must also include a description of the roles and responsibilities of the IHE in grant implementation and partner coordination. A signature from an authorized representative of the IHE and each of the two required partners acknowledging the relationship and the agreements must be included in the application. If either or both of the two required partners is not present in an applicant's community, or cannot feasibly participate, the agreements must explain the absence of each missing partner.

Applications that fail to include either of the two required partner agreement forms, including information on partners' roles and responsibilities (or an explanation documenting that partner's absence in the community), along with the required signatures, will not be considered for funding.

Each consortium applicant (an applicant submitting on behalf of multiple IHEs) and any applicant applying on behalf of multiple campuses (including one or more satellite or extension campuses within its own institution or its consortium of IHEs) must submit a complete set of partner agreements with appropriate signatures from the authorized representative and the two required partners noted earlier for each campus proposed to be receiving services under its EMHE project.

Although this program requires partnerships with other parties, administrative direction and fiscal control for the project must remain with the IHE.

Completed Memoranda of Agreements: All IHEs supported by the EMHE program must use the grant period to create, or review and update, and sign, a memorandum of agreement (MOA) with each of the following four partners: local or State emergency management coordinating body, local government, primary off-campus public health provider, and primary off-campus mental health services provider. Each applicant under the EMHE program must include an assurance with its application that the IHE will establish these MOAs during the project period. MOAs must be completed for each campus to be served by the EMHE project. Completed MOAs will be requested at the end of the project period with the Final Report submission.

Coordination with State or Local Homeland Security Plan: All emergency management plans created or enhanced using funding under this program must be coordinated with the Homeland Security Plan of the State or locality in which the IHE is located. To ensure that emergency services are coordinated, and to avoid duplication of effort within States and localities, an applicant must include in its application an assurance that the IHE will coordinate with, and follow, the requirements of its State or local Homeland Security Plan for emergency services and initiatives.

Implementation of the National Incident Management System (NIMS): Each applicant must agree to implement its grant in a manner consistent with the implementation of the NIMS in its community. An applicant must include in its application an assurance that it has met, or will complete, all current NIMS requirements by the end of the grant period.

Implementation of the NIMS is a dynamic process that will continue to evolve over time. In order to receive Federal preparedness funding under the EMHE program, each IHE must cooperate with the efforts of its community to meet the minimum NIMS requirements established for each fiscal year. Because the Department of Homeland Security's (DHS) determination of NIMS requirements may change from year to year, an applicant must refer to the most recent list of NIMS requirements published by DHS when submitting its application. In any notice inviting applications, the Department will provide applicants with information necessary to access the most recent DHS list of NIMS requirements.

Note: The responsibilities and procedures of any campus-based security office or law enforcement agency and the elements of the campus emergency management plan must be considered in conjunction with the local community's emergency operations plan (EOP) and the capacity and responsibility of local fire and rescue departments, emergency medical service providers, crisis center/hotlines, and law enforcement agencies that may be called to assist the IHE in a large-scale disaster. IHEs' participation in the NIMS preparedness program of the local government is essential in ensuring that first-responder services are delivered in a timely and effective manner. Additional information about NIMS and NIMS implementation is available at: http://www.fema.gov/emergency/nims/ImplementationGuidanceStakeholders.shtm and http://www.fema.gov/emergency/nims/index.shtm.

IHEs that have previously received Federal preparedness funding and are, therefore, already NIMS-compliant should indicate that in the assurance form.

Eligibility: To be considered for an award under this competition, an applicant must be considered an IHE, or a consortia thereof. An IHE, for the purposes of this competition, is defined as: an educational institution in any State that—

(1) Admits as regular students only persons having a certificate of graduation from a school providing secondary education, or the recognized equivalent of such a certificate or persons who meet the requirements of section 484(d)(3) of the Higher Education Act of 1965, as amended;

(2) Is legally authorized within such State to provide a program of education beyond secondary education;

(3) Provides an educational program for which the institution awards a bachelor's degree or provides not less than a 2-year program that is acceptable for full credit toward such a degree or awards a degree that is acceptable for admission to a graduate or professional degree program, subject to review and approval by the Secretary;

(4) Is a public or other nonprofit institution; and

(5) Is accredited by a nationally recognized accrediting agency or association or, if not so accredited, is an institution that has been granted preaccreditation status by such an agency or association that has been recognized by the Secretary for the granting of preaccreditation status, and the Secretary has determined that there is satisfactory assurance that the institution will meet the accreditation standards of such an agency or association within a reasonable time.

This notice does not preclude us from proposing additional priorities, requirements, definitions, or selection criteria, subject to meeting applicable rulemaking requirements.

Note: This notice does not solicit applications. In any year in which we choose to use one or more of these priorities and requirements, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently. In assessing the potential costs and benefits—both quantitative and qualitative—of this final regulatory action, we have determined that the benefits of the final priorities and requirements justify the costs.

We have determined, also, that this final regulatory action does not unduly interfere with State, local, and tribal governments in the exercise of their governmental functions.

Discussion of Costs and Benefits:

We fully discussed the costs and benefits of this regulatory action in the notice of proposed priorities and requirements. After review, we determined that there will be no substantial additional costs to the grantee as a result of the addition of the new priority element related to continuity planning. An ultimate goal of the EMHE program is to decrease the resulting costs to IHEs in terms of lost resources, facilities, time, and causalities that may result from an actual emergency and the new priority element directly supports this goal. Further, the costs to support this activity may be included in an applicant's proposed EMHE budget. Accordingly, the addition of this element to this final priority is determined to have no additional costs to the grantees.

Intergovernmental Review: This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 29, 2010.
Kevin Jennings,
Assistant Deputy Secretary for Safe and Drug-Free Schools.

[FR Doc. 2010-7421 Filed 3-31-10; 8:45 am]

BILLING CODE 4000-01-P